DEPARTMENT OF DEFENSE

Department of the Army

Draft Environmental Impact Statement for the Disposition of Hangars 2 and 3, Fort Wainwright, Alaska

AGENCY: Department of the Army, DoD.

ACTION: Notice of availability.

SUMMARY: The Department of the Army announces the availability of the Draft Environmental Impact Statement (EIS) for the disposition of two historic hangars at Fort Wainwright (FWA). The Draft EIS analyzes and evaluates the potential environmental impacts associated with proposed disposition options for two historic World War II-era hangars (Hangars 2 and 3) and supporting infrastructure located on the Main Post of FWA. Environmental consequences were evaluated for seven resource areas: Air quality, cultural resources, hazardous materials/hazardous waste, safety, environmental justice and protection of children, sustainability, and transportation. No significant impacts would be anticipated under all resource categories except cultural, which would experience significant impacts.

The Army considered several reuse alternatives for the hangars. All but one of these reuse alternatives were not compatible with the current or future military mission at FWA. This one reuse exception as an unmanned aerial system maintenance hangar was determined to be prohibitively expensive. As a result, only one action alternative was considered as reasonable and is analyzed in detail in the Draft EIS: Demolition of Hangars 2 and 3 (Alternative 1). The No Action Alternative is also considered and carried through for detailed analysis in the Draft EIS. Under the No Action Alternative, demolition of Hangars 2 and 3 would not occur, the hangars would remain vacant, and they would be maintained at minimal levels. The No Action Alternative provides the environmental baseline conditions for comparing the impacts associated with the other alternative.

DATES: The public comment period will end 45 days after publication of the NOA in the Federal Register by the U.S. Environmental Protection Agency. The Army will conduct a public meeting for the Draft EIS in Fairbanks, Alaska, with the date and location being announced in the local news media.

ADDRESSES: Please send written comments on the Draft EIS to Mr. Matthew Sprau, Directorate of Public Works, Attention: IMFW-PWE (Sprau), 1060 Gaffney Road #4500, Fort Wainwright, Alaska 99703-4500. Email comments should be sent to: matthew.h.sprau.ctr@mail.mil.

FOR FURTHER INFORMATION CONTACT: Ms. Linda Douglass, Public Affairs Office (PAO), IMPC-FWA-PAO (Douglass), 1060 Gaffney Road #5900, Fort Wainwright, Alaska 99703-5900; telephone (907) 353-6701, email: linda.douglass@us.army.mil.

SUPPLEMENTARY INFORMATION: Hangars 2 and 3 are contributing resources to the Ladd Field National Historic Landmark (Ladd Field NHL) as well as the Ladd Air Force Base Cold War Historic District (Cold War Historic District) at Fort Wainwright. The Ladd Field NHL was listed on the National Register of Historic Places in 1984, and the Cold War Historic District was determined to be eligible for the National Register of Historic Places in 2010. Constructed between 1943 and 1944 as semi-permanent structures, these hangars have received varying degrees of operational maintenance over the years, but no large-scale rehabilitation has occurred. To accommodate changing missions, the Army completed numerous interior modifications, including creating doorways and windows and altering the interior lateral cross-bracing. The lack of rehabilitation, interior modifications, the age of the structures, a fire in Hangar 2, and the harsh Alaskan environment have all contributed to the compromised structural integrity of both buildings. The U.S. Army Garrison Fort Wainwright, Alaska (USAG FWA) has condemned the buildings, and they are no longer used because they present a safety hazard.

This Draft EIS has been prepared in accordance with the National Environmental Policy Act of 1969, as amended (NEPA) (42 U.S.C. 4321 et seq.); NEPA-implementing regulations issued by the President's Council on Environmental Quality (CEQ) (40 Code of Federal Regulations [CFR] 1500-1508); and the Army's NEPA-implementing regulation (32 CFR 651, Environmental Analysis of Army Actions). The purpose of this Draft EIS is to inform the decision maker, agencies, interested parties, Alaska Native tribes, and the public of possible environmental consequences associated with the reasonable disposition alternatives for Hangars 2 and 3.

The USAG FWA has entered into consultation concerning the proposed disposition of Hangars 2 and 3 as required by Section 106 of the National Historic Preservation Act and its implementing regulations (36 CFR 800). The USAG FWA concludes that the disposition would result in historic properties being adversely affected. The disposition of the hangars would adversely affect the hangars as contributing resources and, in so doing, would adversely affect the Ladd Field NHL and Cold War Historic District. The Army is pursuing a Memorandum of Agreement (MOA) with the Alaska State Historic Preservation Office and the Advisory Council on Historic Preservation pursuant to 36 CFR 800.6(2)(c) to mitigate adverse effects.

The Army invites federal, state, and local agencies; organizations; the public; and Alaska Native tribes to submit written comments and to participate in a public meeting where oral and written comments and suggestions will be received concerning the alternatives and analyses addressed in the Draft EIS and to fulfill public involvement under Section 106 of the National Historic Preservation Act. The public meeting will be in Fairbanks, Alaska, with the date and location being announced in the local news media.

Copies of the Draft EIS will be available for review at the Noel Wien Public Library prior to the public meeting. The Draft EIS may also be reviewed electronically at: www.wainwright.army.mil/env/NEPA/Current.html.

Brenda S. Bowen,
Army Federal Register Liaison Officer.

[FR Doc. 2013-14726 Filed 6-20-13; 8:45 am]

BILLING CODE 3710-08-P